DEPARTMENT OF HOMELAND SECURITY

Federal Emergency Management Agency

[Docket ID FEMA-2019-0002; Internal Agency Docket No. FEMA-B-1915]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 5, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1915, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Crittenden County, Kentucky and Incorporated Areas
Project: 13-04-8739S Preliminary Date: September 30, 2016 and June 29, 2018
Unincorporated Areas of Crittenden County | Crittenden County Courthouse, Clerk's Office, 107 South Main Street, Suite 203, Marion, KY 42064.
Livingston County, Kentucky and Incorporated Areas
Project: 13-04-8739S Preliminary Date: September 30, 2016 and June 29, 2018
City of Smithland | City Hall, 310 Wilson Avenue, Smithland, KY 42081.
Unincorporated Areas of Livingston County | Livingston County Judge Executive's Office, 321 Court Street, Smithland, KY 42081.
Cass County, North Dakota (All Jurisdictions)
Project: 10-08-0041S Preliminary Date: January 29, 2016 and July 18, 2018
City of Amenia | Cass County Planning Office, 1201 Main Avenue West, West Fargo, ND 58078.
City of Argusville | City Auditor's Office, 602 Lynn Dawn Drive, Argusville, ND 58005.
City of Arthur | Community Hall, 340 Main Street, Arthur, ND 58006.
City of Casselton | City Hall, 702 1st Street North, Casselton, ND 58012.
City of Davenport | City Hall, 115 4th Avenue, Davenport, ND 58021.
City of Fargo | City Hall, 225 4th Street North, Fargo, ND 58102.
City of Harwood | City Hall, 108 Main Street, Harwood, ND 58042.
City of Horace | City Hall 215 Park Drive East, Horace, ND 58047.
City of Hunter | Cass County Planning Office, 1201 Main Avenue West, West Fargo, ND 58078.
City of Kindred | City Hall, 31 5th Avenue North, Kindred, ND 58051.
City of Mapleton | City Hall, 651 2nd Street, Mapleton, ND 58059.
City of Reiles Acres | Cass County Planning Office, 1201 Main Avenue West, West Fargo, ND 58078.
City of West Fargo | City Hall, 800 4th Avenue East, Suite 1, West Fargo, ND 58078.
Township of Addison | Cass County Planning Office, 1201 Main Avenue West, West Fargo, ND 58078.
Township of Amenia | Cass County Planning Office, 1201 Main Avenue West, West Fargo, ND 58078.
Township of Arthur | Cass County Planning Office, 1201 Main Avenue West, West Fargo, ND 58078.
Township of Berlin | Cass County Planning Office, 1201 Main Avenue West, West Fargo, ND 58078.
Township of Casselton | Cass County Planning Office, 1201 Main Avenue West, West Fargo, ND 58078.
Township of Davenport | Cass County Planning Office, 1201 Main Avenue West, West Fargo, ND 58078.
Township of Durbin | Cass County Planning Office, 1201 Main Avenue West, West Fargo, ND 58078.
Township of Everest | Cass County Planning Office, 1201 Main Avenue West, West Fargo, ND 58078.
Township of Gardner | Cass County Planning Office, 1201 Main Avenue West, West Fargo, ND 58078.
Township of Harmony | Cass County Planning Office, 1201 Main Avenue West, West Fargo, ND 58078.
Township of Harwood | Clerk, Zoning and Administrator's Office, 126 Brooktree Park, Harwood, ND 58042.
Township of Highland | Cass County Planning Office, 1201 Main Avenue West, West Fargo, ND 58078.
Township of Hunter | Cass County Planning Office, 1201 Main Avenue West, West Fargo, ND 58078.
Township of Maple River | Cass County Planning Office, 1201 Main Avenue West, West Fargo, ND 58078.
Township of Mapleton | Cass County Planning Office, 1201 Main Avenue West, West Fargo, ND 58078.
Township of Noble | Cass County Planning Office, 1201 Main Avenue West, West Fargo, ND 58078.
Township of Normanna | Cass County Planning Office, 1201 Main Avenue West, West Fargo, ND 58078.
Township of Pleasant | Cass County Planning Office, 1201 Main Avenue West, West Fargo, ND 58078.
Township of Raymond | Cass County Planning Office, 1201 Main Avenue West, West Fargo, ND 58078.
Township of Reed | Reed Township Hall, 1851 County Road 17 North, West Fargo, ND 58078.
Township of Rush River | Cass County Planning Office, 1201 Main Avenue West, West Fargo, ND 58078.
Township of Walburg | Cass County Planning Office, 1201 Main Avenue West, West Fargo, ND 58078.
Township of Warren | Warren Township Chairman's Office, 9605 81st Street South, Horace, ND 58047.
Township of Watson | Cass County Planning Office, 1201 Main Avenue West, West Fargo, ND 58078.
Township of Wiser | Cass County Planning Office, 1201 Main Avenue West, West Fargo, ND 58078.

[FR Doc. 2019-06687 Filed 4-4-19; 8:45 am]

BILLING CODE 9110-12-P